FEDERAL COMMUNICATIONS COMMISSION

47 CFR Part 73

[MB Docket No. 13-249; FCC 15-142]

Revitalization of the AM Radio Service

AGENCY: Federal Communications Commission.

ACTION: Final rule; announcement of effective date.

SUMMARY: In this document, the Commission announces that the Office of Management and Budget (OMB) approved on January 19, 2016, for a period for three years, an information collection for FCC Form 338, AM Station Modulation Dependent Carrier Level (MDCL) Notification Form and 47 CFR 73.1560 contained in the Report and Order, FCC 15-142. This document is consistent with the Report and Order, which stated that the Commission would publish a document in the Federal Register announcing OMB approval and the effective date of the requirements.

DATES: The amendment to 47 CFR 73.1560 in the final rule published at 81 FR 2751, January 19, 2016, is effective on March 3, 2016.

FOR FURTHER INFORMATION CONTACT: For additional information contact Cathy Williams, Cathy.Williams@fcc.gov, (202) 418-2918.

SUPPLEMENTARY INFORMATION: This document announces that, on January 19, 2016, OMB approved the information collection requirements for FCC Form 338, AM Station Modulation Dependent Carrier Level (MDCL) Notification Form and 47 CFR 73.1560, published at 81 FR2751 on January 19, 2016. The OMB Control Number is 3060-1194. The Commission publishes this document as an announcement of the effective date of the requirements. If you have any comments on the burden estimates listed below, or how the Commission can improve the collections and reduce any burdens caused thereby, please contact Cathy Williams, Federal Communications Commission, Room 1-C823, 445 12th Street SW., Washington, DC 20554. Please include the OMB Control Number, 3060-1194, in your correspondence. The Commission will also accept your comments via the Internet if you send them to PRA@fcc.gov.

To request materials in accessible formats for people with disabilities (Braille, large print, electronic files, audio format), send an email to fcc504@fcc.gov or call the Consumer and Governmental Affairs Bureau at (202) 418-0530 (voice), (202) 418-0432 (TTY).

Synopsis

As required by the Paperwork Reduction Act of 1995 (44 U.S.C. 3507), the FCC is notifying the public that it received OMB approval on January 19, 2016, for the information collection requirements contained in the information collection 3060-1194.

Under 5 CFR 1320, an agency may not conduct or sponsor a collection of information unless it displays a current, valid OMB Control Number.

No person shall be subject to any penalty for failing to comply with a collection of information subject to the Paperwork Reduction Act that does not display a current, valid OMB Control Number. The OMB Control Number is 3060-1194. The foregoing document is required by the Paperwork Reduction Act of 1995, Public Law 104-13, October 1, 1995, and 44 U.S.C. 3507. The total annual reporting burdens and costs for the respondents are as follows:

OMB Control Number: 3060-1194.

OMB Approval Date: January 19, 2016.

OMB Expiration Date: January 31, 2019.

Title: AM Station Modulation Dependent Carrier Level (MDCL) Notification Form; FCC Form 338.

Form Number: FCC Form 338.

Type of Review: New information collection.

Respondents: Business or other for-profit entities; Not-for-profit institutions.

Number of Respondents and Responses: 100 respondents and 100 responses.

Estimated Hours per Response: 1 hour.

Frequency of Response: On occasion reporting requirement.

Total Annual Burden: 100 hours.

Total Annual Costs: None.

Obligation to Respond: Required to obtain or retain benefits. The statutory authority for this information collection is contained in Sections 154(i), 303, 310 and 533 of the Communications Act of 1934, as amended.

Nature and Extent of Confidentiality: There is no need for confidentiality required with this collection of information.

Privacy Impact Assessment: No impact(s).

Needs and Uses: On October 31, 2013, the Commission released the Notice of Proposed Rule Making, Revitalization of the AM Radio Service (NPRM), FCC 13-139, MB Docket No. 13-249. In the NPRM, the Commission recognized that in September 2011, the Media Bureau (Bureau) had released an MDCL Public Notice, in which it stated that it would permit AM stations, by rule waiver or experimental authorization, to use transmitter control techniques that vary either the carrier power level or both the carrier and sideband power levels as a function of the modulation level. This allows AM licensees to reduce power consumption while maintaining audio quality and their licensed station coverage areas. These techniques are known as Modulation Dependent Carrier Level (MDCL) control technologies.

There are two basic types of MDCL control technologies. In one type, the carrier power is reduced at low modulation levels and increased at higher modulation levels. In the other type, there is full carrier power at low modulation levels and reduced carrier power and sideband powers at higher modulation levels. Use of any of these MDCL control technologies reduces the station's antenna input power to levels not permitted by 47 CFR 73.1560(a).

The MDCL Public Notice permitted AM station licensees wanting to use MDCL control technologies to seek either a permanent waiver of 47 CFR 73.1560(a) for those licensees already certain of the particular MDCL control technology to be used, or an experimental authorization pursuant to 47 CFR 73.1510 for those licensees wishing to determine which of the MDCL control technologies would result in maximum cost savings and minimum effects on the station's coverage area and audio quality. Since release of the MDCL Public Notice, 33 permanent waiver requests and 20 experimental requests authorizing use of MDCL control technologies have been granted by the Bureau.

AM station licensees using MDCL control technologies have reported significant savings on electrical power costs and few, if any, perceptible effects on station coverage area and audio quality. Accordingly, the NPRM tentatively concluded that use of MDCL control technologies reduces AM broadcasters' operating costs while maintaining a station's current level of service to the public, without interference to other stations. The Commission therefore, proposed wider implementation of MDCL control technologies by amending 47 CFR 73.1560(a), to provide that an AM station may commence operation using MDCL control technology without prior Commission authority, provided that the AM station licensee notifies the Commission of the station's MDCL control operation within 10 days after commencement of such operation using the Bureau's Consolidated Database System (CDBS). The NPRM solicited comments on the proposed rule change, as well as on the potential adverse effects of allowing AM stations to commence MDCL control technology operation without prior Commission authority. The NPRM also sought comment as to the potential adverse effects, if any, of MDCL control technology implementation on other AM stations.

AM broadcasters are allowed to implement MDCL technologies without prior authorization, by electronic notification within 10 days of commencing MDCL operations, the Commission created FCC Form 338, AM Station Modulation Dependent Carrier Level (MDCL) Notification. In addition to the standard general contact information, FCC Form 338 solicits minimal technical data, as well as the date that MDCL control operation commenced.

The following rule section is also covered by this information collection:

47 CFR 73.1560(a)(1) specifies the limits on antenna input power for AM stations. AM stations using MDCL control technologies are not required to adhere to these operating power parameters. AM stations may, without prior Commission authority, commence MDCL control technology use, provided that within ten days after commencing such operation, the licensee submits an electronic notification of commencement of MDCL operation using FCC Form 338. OMB preapproved the information collection requirements contained in FCC 13-139 on January 28, 2014. The final information collection requirements were adopted as proposed in FCC 15-142. OMB approved the final information collection requirements on January 19, 2016.

Federal Communications Commission.
Gloria J. Miles,
Federal Register Liaison Officer, Office of the Secretary.

[FR Doc. 2016-01321 Filed 2-1-16; 8:45 am]

BILLING CODE 6712-01-P